DEPARTMENT OF DEFENSE

Department of the Army; Corps of Engineers

Intent To Prepare A Joint Supplemental Environmental Impact Statement/Environmental Impact Report (SEIS/R) for the Hamilton Army Airfield Wetland Restoration Project To Include The Bel Marin Keys Unit V Property, Marin County, CA

AGENCY: U.S. Army Corps of Engineers, DOD.

ACTION: Notice of intent.

SUMMARY: The U.S. Army Corps of Engineers, San Francisco District (Corps) in collaboration with the California Coastal Conservancy (Conservancy) and the San Francisco Bay Conservation and Development Commission (BCDC) are proposing to restore wetlands on the 1,610-acre Bel Marin Keys Unit V (BMKV) property as an expansion of the Hamilton Wetland Restoration Project at the Hamilton Army Air Field (HAAF). This SEIS/R will supplement the combined EIS/R, which was prepared for the Hamilton Wetland Restoration Project in 1998.

FOR FURTHER INFORMATION CONTACT: Questions about the proposed action and SEIS/R can be answered by: Eric Jolliffe, U.S. Army Corps of Engineers, San Francisco District, 333 Market St., 7th floor, San Francisco, CA 94105, ejolliffe@spd.usace.army.mil, (415) 977-8543. Information on the project can be found on the web at http://www.coastalconservancy.ca.gov/belmarin. Written comments can also be submitted via email by sending the comments to: belmarinkeys@jsanet.com.

SUPPLEMENTARY INFORMATION: Pursuant to section 102(2)(c) of the National Environmental Policy Act (NEPA) of 1969 as implemented by the Council on Environmental Quality regulations (40 CFR parts 1500-1508), the California Environmental Quality Act (CEQA), and Public Law 102-484 section 2834, as amended by Public Law 104-106 section 2867, the Department of the Army and the California State Coastal Conservancy hereby give notice of intent to prepare a joint SEIS/R for Hamilton Army Airfield Wetland Restoration Project, Marin County, California to include the addition of the Bel Marin Keys Unit V property. The Corps is the lead agency for this project under the National Environmental Policy Act (NEPA). The Conservancy is the lead agency for this project under the California Environmental Quality Act (CEQA). A joint SEIS/R will be prepared to comply with the requirements of NEPA and CEQA. An EIS/R for the Hamilton Wetland Restoration Project was completed in December 1998. The Hamilton project is presently in final engineering design and is expected to commence in the summer of 2002. In 2001, The Conservancy purchased the BMKV property with the intent of including it as an expansion of the Hamilton project.

1. Proposed Action

The 1,610-acre Bel Marin Keys Unit V (BMKV) property is located in unincorporated Marin County, southeast of the city of Novato. The project area historically supported subtidal bay, tidal wetland, and possibly freshwater marsh habitat but levees constructed during the early 20th century separated the area from the tidal influence of San Pablo Bay and drained the site. The area has remained in agricultural use for the last century and it currently supports hay production. The site has subsided to below sea level. Approximately 90 percent of the tidal wetlands that existed around the San Francisco Bay in 1800 have been destroyed by diking or filling for purposes of agriculture, development, or salt production.

The proposed action is expected to include restoration of the majority of the BMKV parcel to wetlands through, at a minimum, site grading, and breaching of one or more of the existing levees separating the site from San Pablo Bay or other adjacent water bodies. The Corps and the Conservancy are currently developing the Conceptual Wetland Restoration Plan for the BMKV parcel that will identify the general details of the proposed action and potential alternatives for analysis in the SEIR/S.

The goal of this project is to create a diverse array of wetland and wildlife habitats at the BMKV and HAAF sites that benefit endangered species as well as other migratory and resident species.

2. Project Alternatives

As noted above, the Corps and the Conservancy are currently developing the Conceptual Wetland Restoration Plan for the BMKV parcel. The SEIS/R will include at a minimum the following alternatives:

• No Action Alternative—The BMKV parcel would remain in its present state without any active intervention to alter habitats. The parcel would not be added to the Hamilton Wetland Restoration Project.

• Restoration of Wetlands Using Natural Sedimentation—Wetlands would be restored on the BMKV parcel through the use of one or more breaches in the levees that separate the site from San Pablo Bay and possibly other adjacent water bodies. Wetland establishment would occur on the site through deposition of sedimentation due to flows through the breach or breaches.

• Restoration of Wetlands Using Dredge Material—Wetlands would be restored on the BMKV parcel through the use of one or more breaches in the levees that separate the site from San Pablo Bay and possibly other adjacent water bodies. Wetland establishment would occur through the deposition of dredged material on the site to raise the elevations above their current subtidal levels.

Within the two general approaches to wetland restoration (natural sedimentation and dredged material), there are a number of other design considerations that the Corps and Conservancy are currently examining through the development of the Conceptual Plan. These considerations may be incorporated into the proposed action or alternatives to be evaluated in the SEIR/S. These include:

• Connection to Adjacent Water Bodies—The site could be connected to San Pablo Bay through breaches in the outboard levee at several different locations. In addition, the site could be connected to Novato Creek or Pacheco Pond either through breaches in the existing levees or culverts. The general location and design of connections will be identified in the Conceptual Plan.

• Protection and/or Relocation of Existing Infrastructure—There is an existing Novato Sanitary District wastewater line that crosses the site leading to an outfall in San Pablo Bay. The line could require additional protection from settling that might occur as a result of the project or relocation, depending on the overall design of the project.

• Treated Wastewater Use—It may be possible to use treated wastewater from the Navato Sanitary District in a freshwater or brackish marsh on a portion of the site.

• Integration with Hamilton Wetland Restoration Project—Part of the BMKV site is separated from the Hamilton (Airfield) Wetland Restoration Site by an existing levee. Connections between the restoration sites may be possible via breaches or culverts through this levee or via degradation or removal of the levee.

This conceptual design process has included a public meeting in the project area and consultation with public agencies and stakeholders with an interest in the project. The conceptual design process will be completed in early 2002. The outcome of the process will be to identify a proposed action and identify alternatives for analysis in the SEIR/S. Input from the public scoping period and the public scoping meeting will be taken into consideration in the selection of the proposed action and alternatives for further analysis.

3. Scoping Process

The Corps and Conservancy are seeking input from interested federal, state, and local agencies, Native American representatives, and other interested private organizations and parties through provision of this notice and holding of a scoping meeting. The scoping meeting will be held at the Marin Humane Society, 171 Bel Marin Keys Boulevard, Novato, CA on December 5, 2001 at 7:00 pm. The purpose of this meeting is to solicit input regarding the environmental issues of concern and the alternatives that should be discussed in the SEIS/R. The public comment period closes December 31, 2001.

4. Availability of SEIS/R

The public will have an additional opportunity to comment on the proposed alternatives after the draft SEIS/R is released to the public in 2002.

Timothy S. O'Rourke,
Lieutenant Colonel, Corps of Engineers, District Engineer.

[FR Doc. 01-29787 Filed 11-29-01; 8:45 am]

BILLING CODE 3710-19-M